DEPARTMENT OF HEALTH AND HUMAN SERVICES

Health Resources and Services Administration

Advisory Commission; Notice of Meeting

In accordance with section 10(a)(2) of the Federal Advisory Committee Act (Public Law 92-463), announcement is made of the following National Advisory body scheduled to meet during the month of September.

Name: Advisory Commission on Childhood Vaccines (ACCV).

Date and Time: September 5, 2001; 9:00 a.m.-1:00 p.m.

Place: Audio Conference Call and Parklawn Building, Conference Rooms G & H, 5600 Fishers Lane, Rockville, Maryland 20857.

The meeting is open to the public.

The full Commission will meet on Wednesday, September 5, from 9:00 a.m. to 1:00 p.m. The public can join the meeting in person at the address listed above or by Audio Conference Call by calling 1-888-323-2715 and providing the following information:

Leader's Name: Thomas E. Balbier, Jr.

Password: ACCV.

Agenda items will include, but not be limited to: a discussion of the Legislative Proposal to Increase the Pain and Suffering and Death Benefit Caps, and updates from the National Vaccine Injury Compensation Program, Department of Justice, and the National Vaccine Program Office.

Public comment will be permitted at the end of the ACCV meeting on September 5, 2001. Oral presentations will be limited to 5 minutes per public speaker. Persons interested in providing an oral presentation should submit a written request, along with a copy of their presentation to: Ms. Cheryl Lee, Principal Staff Liaison, Division of Vaccine Injury Compensation, Bureau of Health Professions, Health Resources and Services Administration, Room 8A-46, 5600 Fishers Lane, Rockville, MD 20857, Telephone (301) 443-2124. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of their assigned presentation time. Persons who do not file an advance request for a presentation, but desire to make an oral statement, may sign-up in Conference Rooms G and H on September 5, 2001. These persons will be allocated time as time permits.

Anyone requiring information regarding the Commission should contact Ms. Cheryl Lee, Principal Staff Liaison, Division of Vaccine Injury Compensation, Bureau of Health Professions, Health Resources and Services Administration, Room 8A-46, 5600 Fishers Lane, Rockville, Maryland 20857, Telephone (301) 443-2124.

Agenda items are subject to change as priorities dictate.

Dated: August 20, 2001.
Jane M. Harrison,
Director, Division of Policy Review and Coordination.

[FR Doc. 01-21530 Filed 8-24-01; 8:45 am]

BILLING CODE 4165-15-P